DEPARTMENT OF HEALTH AND HUMAN SERVICES

National Institutes of Health

National Institute of Diabetes and Digestive and Kidney Disease; Amended Notice of Meeting

Notice is hereby given of a change in the meeting of the National Institute of Diabetes and Digestive and Kidney Diseases Special Emphasis Panel, November 25, 2003, 9 a.m. to November 25, 2003, 11 a.m. National Institutes of Health, Two Democracy Plaza, 6707 Democracy Boulevard, Bethesda, MD, 20892 which was published in the Federal Register on October 31, 2003, 68 FR 62902.

The meeting will be held on December 18, 2003 from 3 p.m. until 5 p.m. The meeting is closed to the public.

Dated: November 28, 2003.
Anna Snouffer,
Acting Director, Office of Federal Advisory Committee Policy.

[FR Doc. 03-30202 Filed 12-4-03; 8:45 am]

BILLING CODE 4140-01-M